FEDERAL ELECTION COMMISSION

Sunshine Act Meeting

FEDERAL REGISTER CITATION NOTICE OF PREVIOUS ANNOUNCEMENT: 83 FR 62320.

PREVIOUSLY ANNOUNCED TIME AND DATE OF THE MEETING: Wednesday, December 5, 2018 at 2:00 p.m. and continued on Thursday, December 6, 2018 after the open meeting.

CHANGES IN THE MEETING: The meeting will only take place on Thursday, December 6, 2018 following the open meeting.

* * * * *

CONTACT FOR MORE INFORMATION: Judith Ingram, Press Officer, Telephone: (202) 694-1220.

Laura E. Sinram,
Deputy Secretary of the Commission.

[FR Doc. 2018-26580 Filed 12-3-18; 4:15 pm]

BILLING CODE 6715-01-P